DEPARTMENT OF ENERGY

Federal Energy Regulatory Commission

[Docket No. CP22-495-000]

Transcontinental Gas Pipe Line Company, LLC; Notice To Prepare an Environmental Assessment and Revised Schedule for Environmental Review of the Texas to Louisiana Energy Pathway Project

On August 9, 2022, Transcontinental Gas Pipe Line Company, LLC (Transco) filed an application in Docket No. CP22-495-000 requesting a Certificate of Public Convenience and Necessity pursuant to Section 7(c) of the Natural Gas Act to construct and operate certain natural gas pipeline facilities. The proposed project is known as the Texas to Louisiana Energy Pathway Project (Project), and includes construction and operation of a new 15,900-horsepower compressor station in Fort Bend County, Texas; modification of six existing compressors at Compressor Station 40 in Hardin County, Texas; and programming updates at existing Compressor Station 23 in Victoria County, Texas. The Project purpose is to increase the firm capacity of Transco's system by 364,400 dekatherms per day (Dth/day). Transco would accomplish this through the conversion of 130,000 Dth/day from Transco's “IT Feeder System” to firm capacity, the “turnback” of certain firm transportation capacity by customers of Transco, and incremental capacity as a result of Project construction.

On November 16, 2022, the Federal Energy Regulatory Commission (FERC or Commission) issued a Notice of Intent to Prepare an Environmental Impact Statement for the Proposed Texas to Louisiana Energy Pathway Project, Request for Comments on Environmental Issues, Notice of Public Scoping Session, and Schedule for Environmental Review (Notice of Intent) which identified November 30, 2023 as the issuance date for the final Environmental Impact Statement (EIS). However, Commission staff now intends to prepare an Environmental Assessment (EA) for the Project and has therefore revised the planned schedule for the completion of the environmental review.¹

¹ 40 CFR 1501.10 (2020)

The November 16, 2022 Notice of Intent announced the opening of a 30-day scoping period which closed on December 16, 2022. Commission staff will consider the information gathered and comments received during scoping in the preparation of the EA; interested stakeholders do not need to resubmit comments previously submitted. Commission staff will make the EA available for public review and inspection, and solicit comments on the document from the public. The Commission will review and consider any future comments received on the EA in its consideration of the Project.

This notice identifies the revised schedule for completion of the EA for Transco's Project.

Schedule for Environmental Review

Issuance of the EA: June 9, 2023

90-day Federal Authorization Decision Deadline: ² September 7, 2023

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, an additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-495), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: January 27, 2023.
Kimberly D. Bose,
Secretary.

[FR Doc. 2023-02254 Filed 2-2-23; 8:45 am]

BILLING CODE 6717-01-P